FEDERAL RESERVE SYSTEM

Consumer Advisory Council

ACTION: Notice of Meeting of the Consumer Advisory Council

The Consumer Advisory Council will meet on Thursday, October 25, 2007. The meeting, which will be open to public observation, will take place at the Federal Reserve Board's offices in Washington, DC., in Dining Room E on the Terrace Level of the Martin Building. Anyone planning to attend the meeting should, for security purposes, register no later than Tuesday, October 23, by completing the form found online at: https://www.federalreserve.gov/secure/forms/cacregistration.cfm

Additionally, attendees must present photo identification to enter the building.

The meeting will begin at 9 a.m. and is expected to conclude at 1 p.m. The Martin Building is located on C Street, NW., between 20th and 21st Streets.

The Council's function is to advise the Board on the exercise of the Board's responsibilities under various consumer financial services laws and on other matters on which the Board seeks its advice. Time permitting, the Council will discuss the following topics:

• Home Ownership and Equity Protection Act (HOEPA)

Members will discuss various issues related to the Board's rulemaking authority under HOEPA to address concerns about abusive lending practices in the home mortgage market.

• Regulation Z/Truth in Lending Act (TILA)

Members will discuss issues that have been raised in public comments on the proposed amendments to Regulation Z, which implements the Truth in Lending Act (TILA). The amendments would revise the disclosure requirements for open-end (revolving) plans that are not home-secured, including credit2186d accounts.

Reports by committees and other matters initiated by Council members also may be discussed.

Persons wishing to submit views to the Council on any of the above topics may do so by sending written statements to Jennifer Kerslake, Secretary of the Consumer Advisory Council, Division of Consumer and Community Affairs, Board of Governors of the Federal Reserve System, Washington, D.C. 20551. Information about this meeting may be obtained from Ms. Kerslake, 202-452-6470.

Board of Governors of the Federal Reserve System, October 3, 2007.
Jennifer J. Johnson,
Secretary of the Board.

[FR Doc. E7-19842 Filed 10-9-07; 8:45 am]

BILLING CODE 6210-01-S